DEPARTMENT OF COMMERCE

Foreign-Trade Zones Board

[Order No. 1722]

Reissuance of the Subzone Grant of Authority for Subzone 70M, General Motors Corporation, Lansing, MI

Pursuant to its authority under the Foreign-Trade Zones Act of June 18, 1934, as amended (19 U.S.C. 81a-81u), the Foreign-Trade Zones Board (the Board) adopts the following Order:

The Foreign-Trade Zones (FTZ) Board (the Board) has considered the request submitted by the Greater Detroit Foreign Trade Zone, Inc, grantee of FTZ 70 in Detroit, Michigan and current sponsor of Subzone 70M at the General Motors Corporation (GM) facilities in Lansing, Michigan, for reissuance of the grant of authority for subzone status at the GM facilities to the Capital Region Airport Authority, grantee of FTZ 275 in Lansing, Michigan, which has accepted such reissuance subject to approval by the FTZ Board. Upon review, the Board finds that the requirements of the FTZ Act and the Board's regulations are satisfied, and that the proposal is in the public interest.

Therefore, the Board approves the application and recognizes the Capital Region Airport Authority as the grantee of the General Motors Corporation subzone, which is hereby re-designated as Subzone 275A, subject to the FTZ Act and the Board's regulations, including Section 400.28.

Signed at Washington, DC, on November 15, 2010.
Ronald K. Lorentzen,
Deputy Assistant Secretary for Import Administration, Alternate Chairman, Foreign-Trade Zones Board.
Andrew McGilvray,
Executive Secretary.

[FR Doc. 2010-29832 Filed 11-24-10; 8:45 am]

BILLING CODE 3510-DS-P